DEPARTMENT OF TRANSPORTATION

Federal Aviation Administration

[Docket No. 2120-0543]

Agency Information Collection Activities: Requests for Comments; Clearance of [a Renewed] Approval of Information Collection: Pilots Convicted of Alcohol or Drug-Related Motor Vehicle Offenses Subject to State Motor Vehicle Administrative Procedure

AGENCY: Federal Aviation Administration (FAA), DOT.

ACTION: Notice and request for comments.

SUMMARY: In accordance with the Paperwork Reduction Act of 1995, FAA invites public comments about our intention to request the Office of Management and Budget (OMB) approval to renew an information collection. The collection involves receiving and maintaining correspondence required to be sent to the FAA from pilots who have been involved in a drug or alcohol related motor vehicle action. The information to be collected will be used to and/or is necessary because the FAA is concerned about those airmen abusing or dependent on drugs or alcohol in regard to the safety of the National Airspace System.

DATES: Written comments should be submitted by April 24, 2020.

ADDRESSES: Please send written comments:

By Electronic Docket: www.regulations.gov (Enter docket number into search field).

By mail: Christopher Marks, P.O. Box 25810, Oklahoma City, OK 73125.

By fax: 405-954-4989.

FOR FURTHER INFORMATION CONTACT: Christopher Marks by email at: Christopher.Marks@faa.gov; phone: 405-954-2789.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0543.

Title: Pilots Convicted of Alcohol or Drug-Related Motor Vehicle Offenses Subject to State Motor Vehicle Administrative Procedure.

Form Numbers: No official form numbers used.

Type of Review: Renewal of an information collection.

Background: After a study and audit conducted from the late 1970's through the 1980's by the Department of Transportation, Office of the Inspector General, (DOT/OIG), the DOT/OIG recommended the FAA find a way to track alcohol abusers and those dependent on the substance that may pose a threat to the National Airspace (NAS). Through a Congressional act issued in November of 1990, the FAA established a Driving Under the Influence (DUI) and Driving While Intoxicated (DWI) Investigations Branch. The final rule for this program is found in Title 14 Code of Federal Regulations (CFR)—part 61 § 61.15.

This regulation calls for pilots certificated by the FAA to send information regarding Driving Under the Influence (or similar charges) of alcohol and/or drugs to the FAA within 60 days from either an administrative action against their driver's license and/or criminal conviction. Part of the regulation also calls for the FAA to seek certificate action should an airman be involved in multiple, separate drug/alcohol related motor vehicle incidents within a three-year period. Information sent by the airmen is used to confirm or refute any violations of these regulations, as well as by the Civil Aerospace Medical Institute (CAMI) for medical qualification purposes. Collection by CAMI is covered under a separate OMB control number 2120-0034.

An airman is required to provide a letter via mail or facsimile, with the following information: Name, address, date of birth, pilot certificate number, the type of violation which resulted in the conviction or administrative action, and the state which holds the records or action.

Respondents: FAA airmen with drug and alcohol related motor vehicle actions.

Frequency: An average of 862 per year over the last 3 years.

Estimated Average Burden per Response: 20 Minutes.

Estimated Total Annual Burden: 20 minutes per respondent and 287 hours for all respondents annually.

Issued in Oklahoma City, OK, on February 13, 2020.
Christopher Marks,
Security Specialist, Office of Security & Hazardous Materials Safety/Enforcement Standards & Policy Division, AXE-900.

[FR Doc. 2020-03528 Filed 2-21-20; 8:45 am]

BILLING CODE 4910-13-P